FEDERAL COMMUNICATIONS COMMISSION

47 CFR Parts 2 and 90

[WP Docket No. 07-100; PS Docket No. 06-229; WT Docket No. 06-150; DA 12-1540]

4.9 GHz Band

AGENCY: Federal Communications Commission.

ACTION: Proposed rule; reopening of comment and reply comment periods.

SUMMARY: The Public Safety and Homeland Security Bureau on its own motion extends by one month the comment and reply deadlines to the Fifth Further Notice of Proposed Rulemaking of dockets WP Docket No. 07-100, PS Docket No. 06-229, WT Docket No. 06-150. The Bureau takes this action to allow the First Responder Network Authority, a newly formed independent authority within the National Telecommunications and Information Administration, sufficient time to file comments.

DATES: The comment and reply dates for the proposed rule published at 77 FR 45558 (August 1, 2012), are reopened. Submit comments on or before November 1, 2012. Submit reply comments on or before November 30, 2012.

ADDRESSES: You may submit comments, identified by WP Docket No. 07-100, PS Docket No. 06-229, WT Docket No. 06-150, by any of the following methods:

• Federal eRulemaking Portal: http://www.regulations.gov. Follow the instructions for submitting comments.

• Federal Communications Commission's Web Site: http://fjallfoss.fcc.gov/ecfs2/. Follow the instructions for submitting comments.

• Mail: U.S. Postal Service first-class, Express, and Priority mail must be addressed to 445 12th Street SW., Washington, DC 20554. Commercial overnight mail (other than U.S. Postal Service Express Mail and Priority Mail) must be sent to 9300 East Hampton Drive, Capitol Heights, MD 20743.

• Hand or Messenger Delivery: 445 12th St. SW., Room TW-A325, Washington, DC 20554.

• People With Disabilities: Contact the FCC to request reasonable accommodations (accessible format documents, sign language interpreters, CART, etc.) by email: FCC504@fcc.gov or phone: 202-418-0530 or TTY: 202-418-0432.

For detailed instructions for submitting comments, additional information on the rulemaking process, and where to find materials available for inspection, see the SUPPLEMENTARY INFORMATION section of this document.

FOR FURTHER INFORMATION CONTACT: Thomas Eng, Policy and Licensing Division, Public Safety and Homeland Security Bureau, Federal Communications Commission, 445 12th Street SW., Washington, DC 20554, at (202) 418-0019, TTY (202) 418-7233, or via email at Thomas.Eng@fcc.gov.

SUPPLEMENTARY INFORMATION: This is a summary of the Public Safety and Homeland Security Bureau's Order in WP Docket No. 07-100; PS Docket No. 06-229; WT Docket No. 06-150; adopted and released on September 26, 2012. The complete text of this document is available for inspection and copying during normal business hours in the FCC Reference Information Center, Portals II, 445 12th Street SW., Room CY-A257, Washington, DC 20554. This document may also be purchased from the Commission's duplicating contractor, Best Copy and Printing, Inc., in person at 445 12th Street SW., Room CY-B402, Washington, DC 20554, via telephone at (202) 488-5300, via facsimile at (202) 488-5563, or via email at FCC@BCPIWEB.com. Alternative formats (computer diskette, large print, audio cassette, and Braille) are available to persons with disabilities or by sending an email to FCC504@fcc.gov or calling the Consumer and Governmental Affairs Bureau at (202) 418-0530, TTY (202) 418-0432. This document is also available on the Commission's Web site at http://www.fcc.gov. The Commission's Fifth Further Notice of Proposed Rulemaking in WP Docket No. 07-100; PS Docket No. 06-229; WT Docket No. 06-150; adopted and released on June 13, 2012 is available by searching FCC 12-61 on the Commission's EDOCS Web site at http://hraunfoss.fcc.gov/edocs_public/. A summary of the Commission's Fifth Further Notice of Proposed Rulemaking is available in the Federal Register at 77 FR 45558 (August 1, 2012).

Comments

Pursuant to §§ 1.415 and 1.419 of the Commission's rules, 47 CFR 1.415, 1.419, interested parties may file comments and reply comments. Comments may be filed using: (1) The Commission's Electronic Comment Filing System (ECFS), (2) the Federal Government's eRulemaking Portal, or (3) by filing paper copies. See Electronic Filing of Documents in Rulemaking Proceedings, 63 FR 24121, May 1 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

On our own motion, we extend the comment and reply deadlines established in the Fifth Further Notice of Proposed Rulemaking (Fifth FNPRM) of the above-captioned proceeding. A summary of the Commission's Fifth FNPRM is available in the Federal Register at 77 FR 45558 (August 1, 2012). In the Fifth NPRM, the Commission specified that comments are due 60 days after publication in the Federal Register, and reply comments are due 90 days after publication in the Federal Register. On August 1, 2012, the Office of the Federal Register published a summary of the Fifth FNPRM, which established a comment deadline of October 1, 2012, and a reply comment deadline of October 30, 2012.

The Fifth FNPRM seeks comment on various issues relating to the 4.9 GHz band, including the relationship between the 4.9 GHz band and the 700 MHz public safety broadband network, which will be administered by the First Responder Network Authority (FirstNet), a newly formed independent authority within the National Telecommunications and Information Administration. We note that FirstNet is still in the initial stages of formation, and held its first public meeting on September 25, 2012. Thus, under the current comment schedule for this proceeding, FirstNet may not have sufficient time to file comments to the Fifth FNPRM by the comment deadline. Therefore, on our own motion we find that an extension of the comment and reply comment dates for the Fifth FNPRM is appropriate to provide FirstNet and other interested parties additional time to file, which in turn will enable the Commission to develop a more substantial record in this proceeding. Accordingly, we extend the comment deadline to November 1, 2012, and the reply comment deadline to November 30, 2012.

Accordingly, it is ordered that, pursuant to sections 4(i), 4(j), and 5(c) of the Communications Act of 1934, as amended, 47 U.S.C. 154(i), 154(j), 155(c), and pursuant to the authority delegated in Sections 0.191 and 0.392 of the Commission's rules, 47 CFR 0.191, 0.392, we extend the comment and reply comment deadlines for the above proceeding as discussed herein.

Federal Communications Commission.
David S. Turetsky,
Chief, Public Safety and Homeland Security Bureau.

[FR Doc. 2012-25196 Filed 10-12-12; 8:45 am]

BILLING CODE 6712-01-P